DEPARTMENT OF ENERGY

Federal Energy Regulatory Commission

[Docket No. RP99 176 012]

Natural Gas Pipeline Company of America; Notice of Proposed Change in FERC Gas Tariff

February 29, 2000.

Take notice that on February 23, 2000, Natural Gas Pipeline Company of America (Natural) tendered for filing to become part of its FERC Gas Tariff, Sixth Revised Volume No. 1, Original Sheet No. 26D, to be effective April 1, 2000.

Natural states that the purpose of this filing is to implement a Negotiated Rate transaction with Nicor Gas Company (Nicor Gas) under Rate Schedules FTS, DSS and NSS pursuant to Section 49 of the General Terms and Conditions of Natural's Tariff.

Natural concurrently tenders by a separate filing in this docket with the Federal Energy Regulatory Commission (Commission) a copy of the executed negotiated rate agreement between Natural and Nicor Gas, together with a copy of the current Exhibits A and B, the primary receipt and delivery points, respectively, for each of the associated service agreements.

Natural requests waiver of the Commission's Regulations to the extent necessary to permit Original Sheet No. 26D to become effective April 1, 2000.

Natural states that the negotiated rate agreement may deviate in certain respects from the applicable form of service agreement in Natural's Tariff. Specifically, the following categories of provisions may constitute such deviations: MDQ reduction rights, with attendant audit rights, limited contract extension and MDQ reduction rights, shipper limited waiver of Section 5 rights, LN option rights, and certain limited restoration rights upon a change in rate design and service terms.

Natural states that these items do not change the character or nature of the service provided, or the operational conditions of the service. These items were critical to the Agreement by both parties to the resulting negotiated rates. Natural asks the Commission to accept the Agreement to become effective April 1, 2000.

Natural states that copies of the filing are being mailed to its customers, interested state commissions and all parties set out on the Commission's official service list in Docket No. RP99-176.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-5263 Filed 3-3-00; 8:45 am]

BILLING CODE 6717-01-M